DEPARTMENT OF THE INTERIOR

Bureau of Reclamation

Draft Environmental Impact Statement/Environmental Impact Report for Yolo Bypass Salmonid Habitat Restoration and Fish Passage, California

AGENCY: Bureau of Reclamation, Interior.

ACTION: Notice of intent and scoping meetings.

SUMMARY: The Bureau of Reclamation and California Department of Water Resources intend to prepare an environmental impact statement/environmental impact report (EIS/EIR) for the implementation of actions I.6.1 and I.7 identified in the National Marine Fisheries Service's 2009 Biological Opinion and Conference Opinion on the Long-term Operation of the Central Valley Project and State Water Project Reasonable and Prudent Alternative. These actions consist of salmonid habitat restoration efforts within the lower Sacramento River basin and fish passage through the Yolo Bypass. We are seeking suggestions and information on the alternatives and topics to be addressed and any other important issues related to the proposed action.

DATES: Submit written comments on the scope of the environmental impact statement by April 3, 2013.

Oral and written comments will also be accepted during two scoping meetings held to solicit public input on alternatives, concerns, and issues to be addressed in the environmental impact statement/environmental impact report:

1. March 14, 2013, 1:30-3:30 p.m., West Sacramento, California.

2. March 14, 2013, 6:30-8:30 p.m., Woodland, California.

ADDRESSES: Send written comments to Traci Michel, Project Manager, Bureau of Reclamation, Bay-Delta Office, 801 I Street, Suite 140, Sacramento, CA 95814-2536; fax to 916-414-2439; or email at tmichel@usbr.gov.

The scoping meetings will be held at the following locations:

1. West Sacramento—1075 West Capitol Ave., West Sacramento, CA 95691, Galleria and Community Center in the Community Room.

2. Woodland—2001 East St., Woodland, CA 95776, Woodland Community and Senior Center in Banquet Rooms 2 & 3.

FOR FURTHER INFORMATION CONTACT: Traci Michel, 916-414-2420, fax 916-414-2439, or email tmichel@usbr.gov; or Megan Sheely, FESSRO, Fish Passage Improvement Program, California Department of Water Resources, 901 P Street, Room 411A, Sacramento, CA 95814, 916-651-9623, fax 916-376-9688, or email Megan.Sheely@water.ca.gov.

SUPPLEMENTARY INFORMATION:

I. Agencies Involved

The Bureau of Reclamation (Reclamation) is the lead Federal agency, and the California Department of Water Resources (DWR) is the lead state agency. Reclamation will invite the following agencies, and others, as appropriate, to participate as cooperating agencies for the preparation of the EIS/EIR in accordance with the National Environmental Policy Act (NEPA):

• National Marine Fisheries Service;

• U.S. Fish and Wildlife Service;

• U.S. Army Corps of Engineers;

• U.S. Environmental Protection Agency;

• Natural Resources Conservation Service;

• California Department of Fish and Wildlife;

• Central Valley Flood Protection Board;

• Delta Stewardship Council;

• Delta Conservancy;

• Delta Protection Commission;

• Yolo County;

• State and Federal Contractors Water Agency;

• Sacramento Area Flood Control Agency; and

• Local agencies (e.g., potentially affected cities, water districts and reclamation districts).

DWR has identified several agencies that may be trustee or responsible agencies in accordance with CEQA.

II. Why We Are Taking This Action

The National Marine Fisheries Service's 2009 Biological Opinion and Conference Opinion on the Long-term Operation of the Central Valley Project and State Water Project (NMFS BO) concluded that, as proposed, the Central Valley Project and the State Water Project operations were likely to jeopardize the continued existence of four anadromous species listed under the federal Endangered Species Act: Sacramento River winter-run Chinook salmon (Oncorhynchus tshawytscha), Central Valley spring-run Chinook salmon (Oncorhynchus tshawytscha), California Central Valley steelhead (Oncorhynchus mykiss), and the Southern Distinct Population Segment of North American green sturgeon (Acipenser medirostris). The NMFS BO identifies actions within the Reasonable and Prudent Alternative (RPA) that would allow continuing Central Valley Project and State Water Project operations to avoid jeopardy of these species.

RPA actions I.6.1 and I.7 address salmonid habitat restoration actions in the lower Sacramento River basin and fish passage actions in the Yolo Bypass, respectively. The Yolo Bypass, which currently experiences at least some flooding in approximately 80% of years, still retains many characteristics of the historic floodplain habitat that are favorable to various fish species. The primary purpose of the Yolo Bypass is flood damage reduction, but other functions include agriculture and wildlife habitat. Major California restoration planning efforts over several decades (e.g., CALFED, the Bay Delta Conservation Plan) have focused on the Yolo Bypass as a prime area of the lower Sacramento River basin for enhancement of seasonal floodplain fisheries rearing habitat.

The two RPA actions being addressed in this EIS/EIR include:

• RPA Action I.6.1: Restoration of Floodplain Rearing Habitat, through the increase of seasonal inundation within the lower Sacramento River basin; and

• RPA Action I.7: Reduce Migratory Delays and Loss of Salmon, Steelhead, and Sturgeon, through the modification of Fremont Weir and other structures of the Bypass.

III. Purpose and Need for Action

Significant modifications have been made to the historic floodplain of California's Central Valley for water supply and flood damage reduction purposes. The resulting losses of fisheries rearing habitat, migration corridors, and food web production for fish have hindered native fish species that rely on floodplain habitat during part or all of their life history.

The purpose of the action is to create more suitable conditions for fish in the Yolo Bypass and/or lower Sacramento River basin by implementing RPA actions I.6.1 and I.7, as described in the NMFS BO and the 2012 Yolo Bypass Salmonid Habitat Restoration and Fish Passage Implementation Plan. The purpose of RPA action I.6.1 is to restore floodplain fisheries rearing habitat for juvenile Sacramento River winter-run Chinook salmon, Central Valley spring-run Chinook salmon, and Central Valley steelhead. This action could also improve conditions for species of concern, including Sacramento splittail and Central Valley fall-run Chinook salmon. Specific biological purposes related to implementing RPA action I.6.1 include increasing access to, and acreage of, seasonal floodplain fisheries rearing habitat; reducing stranding and the presence of migration barriers; increasing aquatic primary and secondary biotic production to provide food through an ecosystem approach; and providing access to seasonal habitat through volitional entry.

The purpose of RPA action I.7 is to reduce migratory delays and loss of fish at Fremont Weir and other structures in the Yolo Bypass. Specific biological purposes related to RPA action I.7 include improving connectivity within the Yolo Bypass for passage of juvenile salmonids and green sturgeon and improving connectivity between the Sacramento River and the Yolo Bypass to provide passage for adult Sacramento River winter-run Chinook salmon, Central Valley spring-run Chinook salmon, California Central Valley steelhead, and the Southern Distinct Population Segment of green sturgeon.

IV. Project Area

The Yolo Bypass is located in Yolo County, California, within the Sacramento Valley region. The Yolo Bypass spans 25 square miles between the cities of Sacramento and Woodland, south to the City of Rio Vista. The Yolo Bypass is a flood basin, connected by a system of weirs (Fremont, Lisbon, and Sacramento) to the Sacramento River, and various local creeks. Action alternatives may include restoration actions within the lower Sacramento River basin, which also covers parts of Sacramento and San Joaquin counties in California.

V. Alternatives To Be Considered

Both physical and operational modifications will be included in efforts to increase seasonal inundation and improve fish passage. RPA action I.6.1 includes floodplain fisheries rearing habitat restoration in the lower Sacramento River basin. Several physical and operational modifications within the project area may be a part of efforts to increase seasonal inundation. Modifications could include notching Fremont Weir and/or the Sacramento Weir to allow flows to enter the Yolo Bypass during a range of flows in the Sacramento River, improving fish passage at Lisbon Weir, grading or altering channels to improve connectivity, changing operations to increase the frequency and duration of inundation, and identifying and addressing potential areas that could strand fish. Alternatives may include floodplain fisheries rearing habitat restoration actions at other sites in the lower Sacramento River basin.

RPA action I.7 includes changes to improve fish passage within the Yolo Bypass. Elements of the proposed project could include replacing road crossings that impair fish passage, constructing fish passage facilities at Fremont Weir, connecting isolated pools to main channels, improving fish passage at Lisbon Weir, and addressing other obstacles to fish passage.

VI. Statutory Authority

NEPA [42 U.S.C. 4321 et seq.] requires that Federal agencies conduct an environmental analysis of their proposed actions to determine if the actions may significantly affect the human environment. CEQA (California Public Resources Code [CCR], Section 15222 [State CEQA Guidelines]) requires State agencies complete a similar review of how their actions could affect the environment. As required by NEPA and CEQA, Reclamation and DWR will analyze in the EIS/EIR the potential direct, indirect, and cumulative environmental effects that may result from implementation of the proposed action and alternatives, which may include, but are not limited to, the following areas of potential impact:

a. Water resources, including groundwater;

b. Flood control;

c. Land use, including agricultural resources;

d. Socioeconomics;

e. Environmental justice;

f. Biological resources, including fish, wildlife, and plant species;

g. Cultural resources;

h. Hydrology/water quality;

i. Air quality;

j. Power/energy and natural resources;

k. Public services and utilities;

l. Hazards and hazardous materials;

m. Geology, soils, and mineral resources;

n. Visual, scenic, or aesthetic resources;

o. Global climate change/greenhouse gas emissions;

p. Indian trust assets;

q. Noise;

r. Population and housing;

s. Transportation; and

t. Recreation.

VII. Request for Comments

The purposes of this notice are:

• To advise other agencies, potentially affected local governments, tribes, and the public of our intent to prepare an EIS/EIR;

• To obtain suggestions and information from other agencies, interested parties, and the public on the scope of alternatives and issues to be addressed in the EIS/EIR; and

• To identify important issues raised by the public related to the development and implementation of the proposed action.

We invite written comments from interested parties to ensure that the full range of alternatives and issues related to the development of the proposed action are identified. Written comments may be submitted by mail, electronic mail, facsimile transmission or in person (see ADDRESSES above). Comments and participation in the scoping process are encouraged.

VIII. Public Disclosure

Before including your address, phone number, email address, or other personal identifying information in your comment, you should be aware that your entire comment—including your personal identifying information—may be made publicly available at any time. While you can ask us in your comment to withhold your personal identifying information from public review, we cannot guarantee that we will be able to do so.

IX. How To Request Reasonable Accommodation

If special assistance is required at one of the scoping meetings, please contact Traci Michel at the information provided above, or TDD 916-978-5808, at least five working days before the meetings. Information regarding this proposed action is available in alternative formats upon request.

Dated: February 22, 2013.
Anastasia T. Leigh,
Regional Environmental Officer, Mid-Pacific Region.

[FR Doc. 2013-04892 Filed 3-1-13; 8:45 am]

BILLING CODE 4310-MN-P